DEPARTMENT OF DEFENSE

Department of the Navy

[Docket ID USN-2023-HQ-0004]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 13, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Marine Corps WWR Headquarters, 3280 Russell Road, Quantico, VA 22134, ATTN: Ms. Sonya Martin, or call 703-432-1850.

SUPPLEMENTARY INFORMATION:

Title; Associated Form; and OMB Number: Marine Corps Trials Registration; OMB Control Number 0703-MCTR.

Needs and Uses: The Marine Corps Wounded Warrior Regiment (WWR) is the official command charged by the Commandant of the Marine Corps to provide leadership and facilitate the integration of non-medical and medical care to combat and non-combat wounded, ill, and injured (WII) Marines, sailors attached to Marine units, and their family members in order to maximize their recovery as they return to duty or transition to civilian life. The Marine Corps Trials (MCT) is a multi-event adaptive sports competition for WII Marines, Sailors, veterans and international participants that promotes recovery through adaptive sports, develops camaraderie among recovering service members and veterans, and serves as the primary selection venue for the annual Department of Defense (DoD) Warrior Games (WG). This information collection is required to capture critical information on respondents to ensure safe participation, fair competition, and appropriate accommodations are provided for recovering service members (RSMs) to compete in the MCT. Respondents are eligible WWR recovering service members (RSMs), including veterans and international service members, who are interested in participating in the MCT. The MCT Registration form is a comprehensive collection of data intended to manage all aspects of athlete attendance and participation in the MCT, to include: accurate assignment to chosen adaptive sport and classification category, accessible billeting, medical considerations (non-medical attendant needs, service animal, special dietary needs etc.), and travel details.

Affected Public: Individuals or households.

Annual Burden Hours: 37.5.

Number of Respondents: 150.

Responses per Respondent: 1.

Annual Responses: 150.

Average Burden per Response: 15 minutes.

Frequency: Annually.

Dated: January 6, 2023.
Aaron T. Siegel,
Alternate OSD Federal Register Liaison Officer, Department of Defense.

[FR Doc. 2023-00455 Filed 1-11-23; 8:45 am]

BILLING CODE 5001-06-P